DEPARTMENT OF DEFENSE

Department of the Army, Corps of Engineers

Proposals by Non-Federal Interests for Inclusion in the Annual Report to Congress on Future Water Resources Development

AGENCY: U.S. Army Corps of Engineers, Army, Department of Defense.

ACTION: Notice.

SUMMARY: The Acting Assistant Secretary of the Army for Civil Works (ASA(CW)) is soliciting proposals for inclusion in the 2026 Annual Report to Congress on Future Water Resources Development (Annual Report). The Annual Report includes proposals submitted by non-federal interests for new feasibility studies, proposed modifications to authorized water resources development projects or feasibility studies, and proposed modifications to environmental infrastructure program authorities. The Annual Report is authorized under Section 7001 of the Water Resources Reform and Development Act (WRRDA) of 2014, as amended.

DATES: Proposals must be submitted by August 15, 2025.

ADDRESSES: Submit proposals by emailing the completed proposal form to WRRDA7001Proposal@usace.army.mil. If a different method of submission is required, use the further information below to arrange an alternative submission process.

FOR FURTHER INFORMATION CONTACT: For further information about the Annual Report, visit the U.S. Army Corps of Engineers (USACE) Headquarters website (https://www.usace.army.mil/Missions/Civil-Works/Project-Planning/WRRDA-7001-Proposals/), email WRRDA7001Proposal@usace.army.mil, or call Jerica Richardson, Planning and Policy Division, Headquarters, USACE, Washington, DC at 213-259-5661.

SUPPLEMENTARY INFORMATION:

A. Background on the Annual Report

The Annual Report to Congress on Future Water Resources Development (33 U.S.C. 2282d) provides an opportunity for communities to inform Congress about their interest in a new congressional authorization—or modifying an existing authorization—for specifically authorized Civil Works water resources studies, projects, and environmental infrastructure programs. The Annual Report provides Congress with a list of potential studies and projects to newly authorize and a list of existing study, project, and environmental infrastructure program authorities to modify. Congress generally authorizes new USACE studies, projects, and environmental infrastructure programs in an omnibus authorization bill, typically called the Water Resources Development Act (WRDA).

If a proposal from a non-federal interest for a new study authorization is included in the Annual Report, it is anticipated that authorization would be for the study, not for construction. To begin a water resources feasibility study, USACE must have sufficient study authority, and funds must be appropriated and made available for the federal cost share of the feasibility study. A primary outcome of a USACE water resources feasibility study is a recommendation for Congressional authorization to construct a water resources project. For USACE to proceed to construction, the project must be authorized for construction by Congress, and funds must be appropriated and made available for project construction. An overview of USACE Civil Works water resources study and project processes is found in the document entitled “Partnering with the U.S. Army Corps of Engineers: A Guide for Communities, Local Governments, States, Tribes, and Non-Governmental Organizations,” which is available online at https://planning.erdc.dren.mil/toolbox/library/IWRServer/2019-R-02.pdf.

B. Definition of Non-Federal Interest

Proposals for the Annual Report are submitted by non-federal interests, and each feasibility study or project is conducted in partnership with a non-federal interest. For the purposes of the Annual Report, the term “non-federal interest” is defined in Section 221(b) of the Flood Control Act of 1970 (Pub. L. 91-611), as amended (42 U.S.C. 1962-5b(b)). The term “non-federal interest” means (1) a legally constituted public body (including an Indian tribe and a Tribal organization (as those terms are defined in section 5304 of title 25)) and an inter-tribal consortium (as defined in section 3202 of title 25); or (2) a nonprofit entity with the consent of the affected local government, that has full authority and capability to perform the terms of its agreement and to pay damages, if necessary, in the event of failure to perform.

C. Proposal Form

The information for proposals from a non-federal interest is normally entered into a fillable PDF form which can be found at the HQ Annual Report website and submitted by email to WRRDA7001Proposal@usace.army.mil. If a different method of submission is needed, use the contact information in the FOR FURTHER INFORMATION CONTACT section of this Notice to arrange an alternative submission process. Proposals must be submitted by August 15, 2025.

The fillable PDF proposal form requests the following information:

1. Contact information for the individual/agency submitting the proposal: name, phone number, email.

2. Proposal Name.

3. Project Location (State(s)/Territory).

4. Study or project area map; you'll have the option to upload a map of the study/project area (preferred format is an 8.5″ x 11″ PDF).

5. Specific project purpose(s) of the proposed study or modification (USACE mission areas).

6. Project description: demonstrate the proposal is related to USACE missions and authorities and why additional or new authorization is needed.

7. State if this proposal is for a new feasibility study, a modification to a USACE water resources development feasibility study authority, a modification to a USACE water resources project authority, or a modification to a USACE environmental infrastructure program authority.

8. If the proposal is for a modification to an existing authority, provide the name of the authorized study, project, or environmental infrastructure program. Cite the authority (e.g., section of WRDA) if possible.

9. If the proposal is for a modification to an environmental infrastructure program authority, provide a brief description of the assistance provided to date and total federal cost of assistance provided to date.

10. Provide an estimate, to the extent practicable, of the total cost, and the federal and non-federal share of those costs, of the proposed study and, separately, an estimate of the cost of construction or modification.

11. Describe, to the extent applicable and practicable, an estimate of the anticipated monetary and non-monetary benefits of the proposal regarding benefits to the protection of human life and property and improvement to transportation, the national, regional, or local economy, the environment, or the national security interests of the United States.

12. The name of the non-federal interest planning to act as the sponsor, or all non-federal interests in the case of a modification to an environmental infrastructure program authority, including any non-federal interest that has contributed to or is expected to contribute toward the non-federal share of the proposed feasibility study or modification.

13. A statement of support from each associated non-federal interest. Optional: attach letter(s) of support by others. Letters may be addressed generically to the U.S. Army Corps of Engineers, the local Corps District office, or the Assistant Secretary of the Army of Civil Works office.

14. State if the non-federal interest has the financial ability to provide for the required cost share.

15. State if there is local support for the proposal, and (optional) describe the local support.

A complete list of information requested on the proposal form is available on the USACE Headquarters Annual Report web page: https://www.usace.army.mil/Missions/Civil-Works/Project-Planning/WRRDA-7001-Proposals/.

The information provided in a proposal will be included in the Annual Report or posted to the Headquarters public website for the Annual Report. Therefore, any information that is Confidential Business Information, information that should not be disclosed because of statutory restrictions, or any other information that a non-federal interest would not want to appear publicly should not be included in the proposal.

D. Evaluation Criteria

All proposals submitted within the time frame set forth in this notice will be considered for inclusion in the 2026 Annual Report to Congress on Future Water Resources Development. To be included in the Annual Report table, the proposals must meet all the following five criteria established by Congress:

1. The proposal is related to USACE missions and authorities. The proposal must involve a proposed or existing USACE water resources project or effort where the primary purpose is flood and/or coastal storm damage reduction, commercial navigation, aquatic ecosystem restoration, or municipal or agricultural water supply. Proposals for recreation or hydropower are eligible for inclusion if undertaken in conjunction with one of the primary purposes described in this paragraph. For the purposes of this criterion, environmental infrastructure proposals will also be considered “related to USACE missions and authorities.”

2. The proposal requires specific Congressional authorization, including by an Act of Congress.

3. The proposal has not been previously authorized by Congress.

4. The proposal has not been included in the Annual Report table of any previous Annual Report to Congress on Future Water Resources Development.

5. The proposal, if authorized, could be carried out by USACE.

The purpose of the five criteria is, primarily, to determine if a proposal will require Congressional authorization for USACE to undertake the proposed water resources study or project with the non-federal interest.

Environmental infrastructure proposals are an exception to the criteria. To be included in the table within the Annual Report, a proposal must identify a programmatic modification to an environmental infrastructure assistance program that was not included in any previous Annual Report. Additional information and frequently asked questions on the five criteria are available on the USACE Headquarters Annual Report web page: https://www.usace.army.mil/Missions/Civil-Works/Project-Planning/WRRDA-7001-Proposals/.

E. Contents of the Annual Report

The Annual Report will be transmitted to Congress by the ASA(CW) and posted to the USACE Headquarters website at https://www.usace.army.mil/Missions/Civil-Works/Project-Planning/WRRDA-7001-Proposals/.

1. The Annual Report will include a certification by the ASA(CW) stating that each proposal included in the Annual Report meets the five criteria established by Congress or the requirements for proposed modifications to environmental infrastructure program authorities.

2. Signed Chief's Reports recommending authorization of a water resources project will be included in the Annual Report table by the ASA(CW); these proposals should not be submitted in response to this notice.

3. Section 902 of WRDA 1986, as amended, (33 U.S.C. 2280) establishes a maximum authorized cost for water resources projects (also known as the 902 limit). A post authorization change report is required to be completed to support potential modifications to the project authority, including updates to authorized project costs. Completed post authorization change reports recommending modifications to the authorization of a water resources project will be included in the Annual Report table by the ASA(CW); these proposals should not be submitted in response to this notice.

4. Proposals that do not meet all five criteria established by Congress or the requirements for proposed modifications to environmental infrastructure program authorities will be included in an appendix table included in the Annual Report to Congress on Future Water Resources Development. Proposals in the appendix table will include a description of why those proposals did not meet the criteria established by Congress.

F. Sources of More Information

The following are sources of more information for the Annual Report and the proposal submittal and evaluation process:

1. USACE will host two public virtual information sessions about the Annual Report and the proposal submission and evaluation process for the 2026 Annual Report on June 26, 2025, and August 7, 2025. The Headquarters website (https://www.usace.army.mil/Missions/Civil-Works/Project-Planning/WRRDA-7001-Proposals/) contains additional information and frequently asked questions about the Annual Report.

2. The local USACE district office will assist in researching and identifying existing Congressional authorities for Civil Works water resources feasibility studies, projects, and environmental infrastructure programs. Websites for all USACE district offices are available online at: https://www.usace.army.mil/Contact/Unit-websites/.

D. Lee Forsgren,
Acting Assistant Secretary of the Army (Civil Works).

[FR Doc. 2025-06578 Filed 4-16-25; 8:45 am]

BILLING CODE 3720-58-P